FEDERAL MARITIME COMMISSION

Notice of Agreements Filed

The Commission hereby gives notice of the filing of the following agreements under the Shipping Act of 1984. Interested parties may submit comments, relevant information, or documents regarding the agreements to the Secretary by email at Secretary@fmc.gov, or by mail, Federal Maritime Commission, Washington, DC 20573. Comments will be most helpful to the Commission if received within 12 days of the date this notice appears in the Federal Register. Copies of agreements are available through the Commission's website (www.fmc.gov) or by contacting the Office of Agreements at (202)-523-5793 or tradeanalysis@fmc.gov.

Agreement No.: 201366.

Agreement Name: Hoegh Autoliners/Wallenius Wilhelmsen Ocean/EUKOR Car Carriers Space Charter Agreement.

Parties: Hoegh Autoliners, Inc.; Wallenius Wilhelmsen Ocean AS; and EUKOR Car Carriers, Inc.

Filing Party: Wayne Rohde; Cozen O'Connor.

Synopsis: The Agreement authorizes Hoegh and WWO/EUKOR to charter space to and from each other in all U.S. trades.

Proposed Effective Date: 9/6/2021.

Location: https://www2.fmc.gov/FMC.Agreements.Web/Public/AgreementHistory/48502.

Dated: July 30, 2021.
Rachel E. Dickon,
Secretary.

[FR Doc. 2021-16596 Filed 8-3-21; 8:45 am]

BILLING CODE 6730-02-P